NUCLEAR REGULATORY COMMISSION

DEPARTMENT OF ENERGY

Notice of Public Meeting

AGENCIES: U.S. Nuclear Regulatory Commission (NRC) and U.S. Department of Energy (DOE).

ACTION: Notice of Public Meeting.

SUMMARY: The NRC and DOE announce their intent to conduct a public meeting to: (1) Discuss progress they have made since November 2006 concerning Section 3116 of the Ronald W. Reagan National Defense Authorization Act for Fiscal Year 2005; (2) provide information regarding the content and outcome of interactions held to date; (3) address progress in exchanging information on generic technical issues concerning DOE's performance assessments; and (4) provide information on monitoring plans and related activities. The meeting date, time, and location are listed below:

Date: Friday, July 20, 2007.

Time: 10 a.m. to 12 p.m.

Address: Meeting Room—Renoir Room, L'Enfant Plaza Hotel, 480 L'Enfant Plaza, SW., Washington, DC 20024, Phone: 202-484-1000.

Agenda:

10-10:15 Introductions.

10:15-10:30 Opening Remarks.

10:30-11:15 Discussion of current status of NDAA Implementation and other issues.

11:15-12 Public Comment.

Background

On October 28, 2004, the Ronald W. Reagan National Defense Authorization Act for Fiscal Year 2005 (NDAA) was signed by the President. Section 3116 of the NDAA allows the DOE to determine that the term “high-level radioactive waste” (HLW) does not include certain waste stemming from reprocessing of spent nuclear fuel. The NDAA is applicable only in the states of South Carolina and Idaho and does not apply to waste transported out of these states. The NDAA requires that: (1) DOE consult with NRC concerning DOE's waste determinations in South Carolina and Idaho, and (2) NRC, in coordination with the State, monitor such disposal actions taken by DOE for the purpose of assessing compliance with performance objectives in 10 CFR Part 61, Subpart C. If the NRC determines that any such disposal actions taken by DOE are not in compliance with those performance objectives, the NDAA requires NRC to inform DOE, the affected State, and congressional committees.

On November 16, 2006, NRC and DOE conducted a public meeting to discuss interactions during the review of non-HLW determinations prepared under the NDAA. During that meeting, NRC and DOE committed to conduct a future meeting to discuss the progress that has been made since the November 2006 public meeting. During the upcoming public meeting cited in this Notice, NRC and DOE will: (1) Discuss the progress they have made since November 2006; (2) provide information regarding the content and outcome of interactions held to date; (3) address progress in exchanging information concerning generic technical issues related to DOE's performance assessments; and (4) provide information on monitoring plans and related activities.

As noted on the agenda, time will be set aside during this meeting for observers who wish to make comments. After the meeting, a publicly available summary of this meeting will be made available on the NRC's Agency-wide Documents Access and Management System (ADAMS) at www.nrc.gov.

FOR FURTHER INFORMATION CONTACT: For questions related to this meeting, please contact Jennifer Davis of the NRC at (301) 415-7264 or (bjd1@nrc.gov), or Martin Letourneau of DOE's Office of Compliance at (301) 903-3532 or martin.letourneau@em.doe.gov.

Dated at Rockville, Maryland, this 3rd day of July 2007.
For the U.S. Nuclear Regulatory Commission.
Larry W. Camper,
Director, Division of Waste Management and Environmental Protection, Office of Federal and State Materials and Environmental Management Programs.
Dated at Washington, DC, this 3rd day of July 2007.
For the U.S. Department of Energy.
Karen Guevara,
Director, Office of Environmental Management, Office of Compliance.

[FR Doc. 07-3358 Filed 7-9-07; 8:45 am]

BILLING CODE 7590-01-P